ENVIRONMENTAL PROTECTION AGENCY

40 CFR Part 300

[EPA-HQ-SFUND-1989-0008; FRL-9959-34-Region 3]

National Oil and Hazardous Substances Pollution Contingency Plan; National Priorities List: Partial Deletion of the North Penn Area 6 Superfund Site

AGENCY: Environmental Protection Agency (EPA).

ACTION: Proposed rule; correction.

SUMMARY: The Environmental Protection Agency (EPA) Region III published in the Federal Register of December 23, 2016, a Notice of Intent for Partial Deletion of the North Penn Area 6 Superfund Site from the National Priorities List. The notice referenced the incorrect Docket ID Number. This notice provides the correct Docket ID Number.

DATES: February 22, 2017.

FOR FURTHER INFORMATION CONTACT: Huu Ngo, Remedial Project Manager (3HS21), U.S. Environmental Protection Agency, Region III, 1650 Arch Street, Philadelphia, PA 19103-2029; (215) 814-3187; email: ngo.huu@epa.gov.

SUPPLEMENTARY INFORMATION: In the Federal Register of December 23, 2016, (81 FR 94295) in [FRL 9957-30-Region 3], in the heading and in the ADDRESSES section, correct the Docket ID Number to read: EPA-HQ-SFUND-1989-0008.

Dated: January 20, 2017.
Cecil Rodrigues,
Acting Regional Administrator, Region III.

[FR Doc. 2017-03464 Filed 2-21-17; 8:45 am]

BILLING CODE 6560-50-P